DEPARTMENT OF ENERGY

[FE Docket Nos. 15-90-LNG]

Cameron LNG, LLC; Request for Extension of Commencement Deadline for Non-Free Trade Agreement Authorization

AGENCY: Office of Fossil Energy, DOE.

ACTION: Notice of request.

SUMMARY: The Office of Fossil Energy (FE) of the Department of Energy (DOE) gives notice (Notice) of receipt of a request (Request), filed on March 6, 2020, by Cameron LNG, LLC (Cameron LNG). Cameron LNG seeks to amend its existing authorization to export domestically produced liquefied natural gas (LNG) to non-free trade agreement countries set forth in DOE/FE Order No. 3846. Specifically, Cameron LNG requests an extension to commence its export operations. Cameron LNG filed the Request under section 3 of the Natural Gas Act (NGA). Protests, motions to intervene, notices of intervention, and written comments are invited.

DATES: Protests, motions to intervene or notices of intervention, as applicable, requests for additional procedures, and written comments are to be filed using procedures detailed in the Public Comment Procedures section no later than 4:30 p.m., Eastern time, April 30, 2020.

ADDRESSES: Electronic Filing by email: fergas@hq.doe.gov.

Regular Mail: U.S. Department of Energy (FE-34), Office of Regulation, Analysis and Engagement, Office of Fossil Energy, P.O. Box 44375, Washington, DC 20026-4375.

Hand Delivery or Private Delivery Services (e.g., FedEx, UPS, etc.): U.S. Department of Energy (FE-34) Office of Regulation, Analysis and Engagement, Office of Fossil Energy, Forrestal Building, Room 3E-042, 1000 Independence Avenue SW, Washington, DC 20585.

FOR FURTHER INFORMATION CONTACT:

Benjamin Nussdorf or Amy Sweeney, U.S. Department of Energy (FE-34), Office of Regulation, Analysis, and Engagement, Office of Fossil Energy, Forrestal Building, Room 3E-042, 1000 Independence Avenue SW, Washington, DC 20585, (202) 586-7893; (202) 586-2627, benjamin.nussdorf@hq.doe.gov or amy.sweeney@hq.doe.gov.

Cassandra Bernstein or Kari Twaite, U.S. Department of Energy (GC-76), Office of the Assistant General Counsel for Electricity and Fossil Energy, Forrestal Building, 1000 Independence Avenue SW, Washington, DC 20585, (202) 586-9793; (202) 586-6978, cassandra.bernstein@hq.doe.gov or kari.twaite@hq.doe.gov.

SUPPLEMENTARY INFORMATION: On July 15, 2016, in Order No. 3846, DOE/FE authorized Cameron LNG to export domestically produced LNG in a volume equivalent to 515 billion cubic per year (Bcf/yr) of natural gas.¹ DOE/FE authorized Cameron LNG to export this LNG by vessel from Trains 4 and 5 to be constructed at the existing Cameron LNG Terminal, located in Cameron and Calcasieu Parishes, Louisiana (the Expansion Project), to any country with which the United States has not entered into a free trade agreement (FTA) requiring national treatment for trade in natural gas, and with which trade is not prohibited by U.S. law or policy (non-FTA countries) for a 20-year term. As relevant here, Order No. 3846 requires Cameron LNG to “commence export operations using the planned liquefaction facilities no later than seven years from the date of issuance of this Order”—i.e., by July 15, 2023.² In this Request, Cameron LNG asks DOE/FE to extend this deadline until May 5, 2026.³

¹ Cameron LNG, LLC, DOE/FE Order No. 3846, FE Docket No. 15-90-LNG, Opinion and Order Granting Long-Term, Multi-Contract Authorization to Export Liquefied Natural Gas by Vessel from Trains 4 and 5 of the Cameron LNG Terminal Located in Cameron and Calcasieu Parishes, Louisiana, to Non-Free Trade Agreement Nations (July 15, 2016).

² See id. at 132 (Ordering Para. D).

³ Cameron LNG, LLC, Request for Extension of Time Under Order Nos. 3680 and 3846, FE Docket Nos. 15-36-LNG and 15-90-LNG, at 2 (Mar. 6, 2020) [hereinafter Request]. The Request also applies to Cameron LNG's existing FTA order in FE Docket No. 15-36-LNG, but DOE/FE will address that portion of the Request separately pursuant to NGA section 3(c), 15 U.S.C. 717b(c).

We take administrative notice that, on March 25, 2020, the Federal Energy Regulatory Commission (FERC) issued an order granting Cameron LNG's request for an extension of time until May 5, 2024, to construct and operate the Expansion Project. Additionally, in support of this Request, Cameron LNG identifies the actions it has taken to proceed with the construction and operation of the Expansion Project to date. Cameron LNG states that, due to circumstances that have affected the timing of the project, it is unable to complete construction and place the export facilities into service by the existing deadline.⁴ Accordingly, Cameron LNG requests an extension until May 5, 2026, to commence commercial LNG exports from the Expansion Project. Additional details can be found in the Request, posted on the DOE/FE website at: https://www.energy.gov/sites/prod/files/2020/03/f72/Cameron%20LNG%20-%20Request%20for%20Extensions%20of%20Time%20%283.6.20%29.pdf.

⁴ Request at 3-4.

DOE/FE Evaluation

In reviewing Cameron LNG's Request, DOE will consider any issues required by law or policy. DOE will consider domestic need for the natural gas, as well as any other issues determined to be appropriate, including whether the arrangement is consistent with DOE's policy of promoting competition in the marketplace by allowing commercial parties to freely negotiate their own trade arrangements. As part of this analysis, DOE will consider the study entitled, Macroeconomic Outcomes of Market Determined Levels of U.S. LNG Exports (2018 LNG Export Study),⁵ and DOE/FE's response to public comments received on that Study.⁶

⁵ See NERA Economic Consulting, Macroeconomic Outcomes of Market Determined Levels of U.S. LNG Exports (June 7, 2018), available at: https://www.energy.gov/sites/prod/files/2018/06/f52/Macroeconomic%20LNG%20Export%20Study%202018.pdf.

⁶ U.S. Dep't of Energy, Study on Macroeconomic Outcomes of LNG Exports: Response to Comments Received on Study; Notice of Response to Comments, 83 FR 67251 (Dec. 28, 2018).

Additionally, DOE will consider the following environmental documents:

• Addendum to Environmental Review Documents Concerning Exports of Natural Gas From the United States, 79 FR 48132 (Aug. 15, 2014); ⁷

⁷ The Addendum and related documents are available at: http://energy.gov/fe/draft-addendum-environmental-review-documents-concerning-exports-natural-gas-united-states.

• Life Cycle Greenhouse Gas Perspective on Exporting Liquefied Natural Gas From the United States, 79 FR 32260 (June 4, 2014); ⁸ and

⁸ The 2014 Life Cycle Greenhouse Gas Report is available at: http://energy.gov/fe/life-cycle-greenhouse-gas-perspective-exporting-liquefied-natural-gas-united-states.

• Life Cycle Greenhouse Gas Perspective on Exporting Liquefied Natural Gas From the United States: 2019 Update, 84 FR 49278 (Sept. 19, 2019), and DOE/FE's response to public comments received on that study.⁹

⁹ U.S. Dep't of Energy, Life Cycle Greenhouse Gas Perspective on Exporting Liquefied Natural Gas From the United States: 2019 Update—Response to Comments, 85 FR 72 (Jan. 2, 2020). The 2019 Update and related documents are available at: https://fossil.energy.gov/app/docketindex/docket/index/21.

Parties that may oppose this Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable. Interested parties will be provided 15 days from the date of publication of this Notice in which to submit comments, protests, motions to intervene, or notices of intervention. DOE/FE will disregard comments or protests that do not bear directly on the Request.

Any person wishing to become a party to the proceeding must file a motion to intervene or notice of intervention. The filing of comments or a protest with respect to the Request will not serve to make the commenter or protestant a party to the proceeding, although protests and comments received from persons who are not parties will be considered in determining the appropriate action to be taken on the Request. All protests, comments, motions to intervene, or notices of intervention must meet the requirements specified by the regulations in 10 CFR part 590.

Filings may be submitted using one of the following methods: (1) Emailing the filing to fergas@hq.doe.gov, with FE Docket No. 15-90-LNG in the title line; (2) mailing an original and three paper copies of the filing to the Office of Regulation, Analysis, and Engagement at the address listed in ADDRESSES; or (3) hand delivering an original and three paper copies of the filing to the Office of Regulation, Analysis, and Engagement at the address listed in ADDRESSES. All filings must include a reference to FE Docket No. 15-90-LNG. PLEASE NOTE: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

A decisional record on the Request will be developed through responses to this notice by parties, including the parties' written comments and replies thereto. Additional procedures will be used as necessary to achieve a complete understanding of the facts and issues. If an additional procedure is scheduled, notice will be provided to all parties. If no party requests additional procedures, a final Opinion and Order may be issued based on the official record, including the Request and responses filed by parties pursuant to this notice, in accordance with 10 CFR 590.316.

The Request is available for inspection and copying in the Office of Regulation, Analysis, and Engagement docket room, Room 3E-042, 1000 Independence Avenue SW, Washington, DC 20585. The docket room is open between the hours of 8:00 a.m. and 4:30 p.m., Monday through Friday, except Federal holidays. The Request and any filed protests, motions to intervene or notice of interventions, and comments will also be available electronically by going to the following DOE/FE Web address: http://www.fe.doe.gov/programs/gasregulation/index.html.

Signed in Washington, DC, on April 9, 2020.
Amy Sweeney,
Director, Office of Regulation, Analysis, and Engagement, Office of Fossil Energy.

[FR Doc. 2020-07956 Filed 4-14-20; 8:45 am]

BILLING CODE 6450-01-P